DEPARTMENT OF COMMERCE

National Oceanic and Atmospheric Administration

50 CFR Part 622

[I.D. 042307F]

Gulf of Mexico Fishery Management Council; Scoping Hearings

AGENCY: National Marine Fisheries Service (NMFS), National Oceanic and Atmospheric Administration (NOAA), Commerce.

ACTION: Notification of scoping hearings.

SUMMARY: The Gulf of Mexico Fishery Management Council (Council) will convene Public Hearings on Reef Fish Amendment 27/Shrimp Amendment 14.

DATES: The public hearings will held from May 14 - 24, 2007 at 13 locations throughout the Gulf of Mexico. For specific dates and times see SUPPLEMENTARY INFORMATION.

ADDRESSES:

Meeting addresses: The public hearings will be held in the following locations: Brownsville, Port Aransas, Palacios, and Galveston, TX, New Orleans, Chauvin, and Abbeville, LA, Destin, Tampa, and Ft. Myers., FL, Foley and Mobile, AL and Biloxi, MS. For specific dates and times see SUPPLEMENTARY INFORMATION.

Council address: Gulf of Mexico Fishery Management Council, 2203 North Lois Avenue, Suite 1100, Tampa, Florida 33607.

FOR FURTHER INFORMATION CONTACT: Dr. Richard Leard, Deputy Executive Director; telephone: 813-348-1630.

SUPPLEMENTARY INFORMATION: The Gulf of Mexico Fishery Management Council (Council) has scheduled a series of public hearings to receive comments on Draft Amendment 27 to the Reef Fish Fishery Management Plan and Amendment 14 to the Shrimp Fishery Management Plan. This amendment contains potential management measures to modify the rebuilding plan for red snapper in order to end overfishing and recover this overfished stock. These measures would further reduce the directed red snapper harvest as well as bycatch from both the directed fishery and the shrimp fishery.

The public hearings will begin at 6 pm and conclude at the end of public testimony or no later than 10 pm at each of the following locations:

Monday, May 14, 2007, Holiday Inn Brownsville, 3777 N. Expressway, Brownsville, TX 78520, 956-547-1500;

Tuesday, May 15, 2007, Four Points Sheraton New Orleans Airport, 6401 Veterans Memorial Blvd., Metairie, LA 70003, 504-885-5700;

Tuesday, May 15, 2007, Plantation Suites, 1909 Hwy 361, Port Aransas, TX 78373, 361-749-3866;

Wednesday, May 16, 2007, Chauvin Parish Recreation Center, 215 Angel St., Chauvin, LA 70345, 985-594-2020;

Wednesday, May 16, 2007, Palacios Rec Center, 2401 Perryman Ave, Palacios, TX 77465, 361-972-2387;

Thursday, May 17, 2007, LSU Agricultural Center, 1105 W. Port St., Abbeville, LA 70510, 337-898-4335;

Thursday, May 17, 2007, San Luis Resort, 5222 Seawall Boulevard, Galveston, Texas 77550, 409-744-1500;

Monday, May 21, 2007, Embassy Suites Hotel, 570 Scenic Gulf Drive, Destin, FL 32550, 850-337-7000;

Monday, May 21, 2007, Clarion Hotel, 12635 S. Cleveland Ave., Ft. Myers, FL 33907, 239-936-0931;

Tuesday, May 22, 2007, Quorum Hotel, 700 N. Westshore Blvd., Tampa, FL 33609, 813-289-8200;

Tuesday, May 22, 2007, Foley Community Center, 407 E. Laurel Ave., Foley, AL 36535, 251-943-1545;

Wednesday, May 23, 2007, Riverview Plaza Hotel, 64 S. Water St., Mobile, AL 36602, 251-438-4000;

Thursday, May 24, 2007, Donal Snyder Parks & Rec Center, 2520 Pass Road, Biloxi, MS 39531, 228-435-6281.

Copies of the Amendment can be obtained by calling the Council office at 813-348-1630. These hearings are physically accessible to people with disabilities. Requests for sign language interpretation or other auxiliary aids should be directed to Tina Trezza at the Council (see ADDRESSES) at least five working days prior to the meeting.

Dated: April 24, 2007.
James P. Burgess,
Acting Director, Office of Sustainable Fisheries, National Marine Fisheries Service.

[FR Doc. E7-8189 Filed 4-27-07; 8:45 am]

BILLING CODE 3510-22-S